DEPARTMENT OF THE INTERIOR

National Park Service

[9475-0764-422]

Draft Environmental Impact Statement, Stehekin River Corridor Implementation Plan, North Cascades National Park Service Complex; Chelan, Skagit, and Whatcom Counties, WA

AGENCY: National Park Service, Interior.

ACTION: Notice of extension of public comment period.

SUMMARY: The National Park Service, in cooperation with the Federal Highway Administration, has prepared a combined Stehekin River Corridor Implementation Plan, Lake Chelan National Recreation Area Land Protection Plan, and Draft Environmental Impact Statement (Plan/DEIS). The Plan/DEIS evaluates four alternatives for sustainable management of NPS facilities (e.g. roads, maintenance yard, trails, bridges) in response to flooding and erosion issues on the lower Stehekin River between High Bridge and Lake Chelan, outside of the Stephen Mather Wilderness. The original Notice of Availability (published in the Federal Register on September 7, 2010) announced a 90-day public comment period. In deference to requests from the public and interested organizations, the comment period has been extended for an additional thirty days.

SUPPLEMENTARY INFORMATION: It will not be necessary for individuals, organizations, and agencies that have already commented to do so again. All other comments must now be postmarked or transmitted no later than February 11, 2011. Respondents wishing to comment electronically may do so online (http://www.nps.gov/noca/parkmgmt/srcip.htm), or letters may be submitted via regular mail to: Superintendent, Attn: Stehekin River Corridor Implementation Plan/DEIS, North Cascades National Park Service Complex, 810 State Route 20, Sedro Woolley, WA 98284.

Electronic copies of the Plan/DEIS may be downloaded from the online address noted above; to obtain a printed copy of the document please contact the park at the address noted above, or request via telephone at (360) 854-7201.

Two additional public meetings regarding the Plan/DEIS have been scheduled during the extended comment period. These will be held in Stehekin, Washington on January 10, 2011 (5 p.m.-7 p.m., Golden West Visitor Center); and on January 12, 2011 in Sedro—Woolley, Washington (6 p.m.-8 p.m., North Cascades National Park Complex Headquarters).

Before including your address, phone number, e-mail address, or other personal identifying information in your comment, you should be aware that your entire comment—including your personal identifying information—may be made publicly available at any time. While you can ask us in your comment to withhold your personal identifying information from public review, we cannot guarantee that we will be able to do so.

Dated: November 29, 2010.
Patricia L. Neubacher,
Acting Regional Director, Pacific West Region.

[FR Doc. 2011-1966 Filed 1-27-11; 8:45 am]

BILLING CODE 4312-GX-P